DEPARTMENT OF AGRICULTURE

Forest Service

Kootenai National Forest, Sanders, County, MT; Rock Creek Project

AGENCY: Forest Service, USDA.

ACTION: Notice of intent to prepare a supplemental environmental impact statement.

SUMMARY: The Kootenai National Forest will prepare a Supplemental Environmental Impact Statement (SEIS) for the Rock Creek Project. The project is located within the Trout Creek Ranger District, Kootenai National Forest, Sanders County, Montana, and east of Noxon, Montana. The Final EIS was made available in September 2001. The Forest Service Record of Decision was issued in June 2003. The Montana Department of Environmental Quality issued a Record of Decision in 2001 that provided the State's approval of the project. The SEIS will respond to the US District Court Decision in Rock Creek Alliance et al. v. USFS, Revett Silver Company, and USFWS, (CV 05-107-M-DWM and CV 08-028-M-DWM consolidated) May 4, 2010 opinion. In that opinion the Court found deficiencies in the 2001 Rock Creek Project FEIS. The court remanded the FEIS back to the Forest Service for further action and vacated the 2003 Record of Decision. The SEIS will focus on the issues directed by the Court, and will update other resource analyses, if there are significant new circumstances or information relevant to environmental concerns and bearing on the proposed action or its impacts in order ensure appropriate analysis of the proposed mining project.

DATES: Under 40 CFR 1502.9(c)(4), there is no formal scoping period for a SEIS. The Forest Service is not inviting comments at this time. A comment period for the Draft SEIS will be 45 days from the date the Environmental Protection Agency publishes the notice of availability in the Federal Register.

ADDRESSES: Kootenai National Forest, 31374 US Highway 2, Libby, MT 59923.

FOR FURTHER INFORMATION CONTACT: Bobbie Lacklen, Project Coordinator, Kootenai National Forest, Supervisor's Office, 31374 US Highway 2, Libby, MT 59923-3022. Phone (406) 293-6211 or e-mail at blacklen@fs.fed.us.

SUPPLEMENTARY INFORMATION: Following is a brief summary of the proposed action. Detailed descriptions of the proposed action and alternatives analysis are provided in the original FEIS and ROD, which can be can be viewed or downloaded from the following Web site: http://www.fs.usda.gov/goto/kootenai/minerals.

Proposed Action

The proposed action is divided into two phases: Phase I consists of construction of the evaluation adit and data collection, and Phase II is comprised of construction operation and reclamation of the mine, mill, and tailings disposal facility. The two phases are described below:

Phase I

The proposed evaluation adit would be driven prior to other major construction work on the Rock Creek Project in an attempt to better understand the configuration and grade of the ore body. During the mine production (Phase II), this adit will not be utilized for production but rather would serve as an exhaust ventilation opening and as a secondary escape-way. Conventional methods would be used for adit construction. Existing roads would provide access. Approximately 10 acres of National Forest System lands would be disturbed at the adit site and 10 acres of private lands would be disturbed at a support facility site and from required road improvements. More details on the evaluation adit can be found in the Rock Creek Evaluation Adit Project Revised Application for Exploration License at: http://www.fs.usda.gov/goto/kootenai/minerals.

The portal of the evaluation adit would be located at about 5,755 feet in elevation. The adit would be 18 feet high by 18 feet wide, with an estimated length of 6,592 feet at a decline of 10 percent. Forty-foot cross cuts would be driven from the adit every 500 feet to provide turnouts for vehicle passing, sump construction, and space for pump installations.

About 90,000 tons of barren development rock and 88,000 tons of ore would be excavated from the proposed adit during the evaluation phase. Unmineralized or barren rock would be placed near the portal to form a flat-topped pile sloping downhill to its angle of repose. Mineralized material would be placed in a stockpile near the portal for later processing when the mill would be in operation.

Additional support facilities are proposed to be constructed for the evaluation adit. These facilities would be located on Rock Creek Resources (RC Resources) private property near State Highway 200. These include: An office; a dry change house facility; a garage, warehouse and water treatment facility; water retention ponds, a graded, graveled employee parking lot, and a soil stockpile.

Phase II

RC Resources proposes to construct, operate, and reclaim all facilities (including the evaluation adit) necessary to mine, remove, and transport economically mineable minerals from the Rock Creek deposit. The Rock Creek Mine would consist of an underground copper/silver mine and mill/concentrator complex in northwestern Montana with a mine life of 30 to 37 years. The disturbance area for the project including the tailings impoundment would encompass 482 acres, of which 140 acres are National Forest System lands. The Rock Creek ore deposit is located beneath and adjacent to the Cabinet Mountain Wilderness (CMW) in the Kaniksu National Forest. The mill and service adit access to the ore body would be located 2 miles from the wilderness boundary, near State Highway 200. The mill and other facilities would be primarily located within the Kaniksu National Forest in Sanders County. The Kootenai National Forest (KNF) administers the Kaniksu National Forest (within Montana).

Lead and Cooperating Agencies

The USDA Forest Service is the Lead Agency for this project. The US Environmental Protection Agency and the US Army Corps of Engineers will participate in the project as a Cooperating Agencies. Other agencies may become a Cooperating Agency as the SEIS progresses.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final supplemental environmental impact statement.

To assist the Forest Service in identifying and considering issues and concerns on the proposed action, comments on the Draft SEIS should be as specific as possible. It is also helpful if comments refer to specific pages or chapters of the draft statement. Reviewers may wish to refer to the Council on Environmental Quality Regulations for implementing the procedural provisions of the National Environmental Policy Act at 40 CFR 1503.3 in addressing these points.

Responsible Official

Paul Bradford, Forest Supervisor Kootenai National Forest, 31374 US Highway 2, Libby, MT 59923 is the Responsible Official for the Rock Creek Project.

Dated: September 1, 2011.
Paul Bradford,
Forest Supervisor, Kootenai National Forest.

[FR Doc. 2011-23304 Filed 9-12-11; 8:45 am]

BILLING CODE 3410-11-P